DEPARTMENT OF ENERGY

Western Area Power Administration

[DOE/EIS-0514]

Colusa-Sutter 500-Kilovolt Transmission Line Project, Colusa, Sutter, Yolo and Sacramento Counties, California

AGENCY: Western Area Power Administration, Department of Energy.

ACTION: Notice of additional public scoping meetings.

SUMMARY: On December 18, 2015, Western Area Power Administration (WAPA), an agency of the Department of Energy (DOE), announced the Notice of Intent to prepare an Environmental Impact Statement/Environmental Impact Report (EIS/EIR) for the proposed 500-kilovolt (kV) transmission line. This proposed Project is known as the Colusa-Sutter (CoSu) 500-kV Transmission Line Project. In that previous notice, WAPA described the schedule for scoping meetings and advised the public that comments on the scope of the EIS/EIR were due by February 16, 2016. On February 5, 2016, an additional notice was published extending the due date for comments on the scope of the EIS/EIR to April 18, 2016. By this notice, WAPA announces additional public scoping meetings and reopens the period for submitting comments on the scope of the EIS/EIR.

DATES: WAPA will accept comments on the scope of the EIS/EIR from January 6, 2017 to March 7, 2017.

ADDRESSES: Written comments on the proposed scope of the Draft EIS/EIR for this proposed Project may be mailed or emailed to Mr. Andrew M. Montaño, National Environmental Policy Act (NEPA) Document Manager, Western Area Power Administration, Headquarters, P.O. Box 281213, Lakewood, CO 80228-8213, or by email: montano@wapa.gov.

FOR FURTHER INFORMATION CONTACT: For further information and/or to have your name added to our mailing list, please contact Andrew M. Montaño, at (720) 962-7253 or at the address listed above in the ADDRESSES section. For the most recent information and for announcements, please visit the Project Web site at: www.CoSuLine.com.

For general information on DOE's NEPA review procedures or status of a NEPA review, contact Ms. Carol M. Borgstrom, Director of NEPA Policy and Compliance, GC-54, U.S. Department of Energy, 1000 Independence Avenue SW., Washington, DC 20585; telephone (202) 586-4600 or (800) 472-2756; or email: askNEPA@hq.doe.gov.

For general information on the Sacramento Municipal Utility District (SMUD) California Environmental Quality Act (CEQA) review procedures or status of the CEQA review, please contact Ms. Kim Crawford, Environmental Specialist, SMUD, 6201 S. Street, Mail Stop H201, Sacramento, CA 95852-1830; telephone (916) 732-5063; email: kim.crawford@smud.org.

SUPPLEMENTARY INFORMATION: On December 18, 2015, WAPA announced the Notice of Intent to prepare an EIS for the Colusa-Sutter (CoSu) 500-kV Transmission Line Project (80 FR 79037). An additional notice was published on February 5, 2016, announcing the extension of the scoping period to April 18, 2016 (81 FR 6257). The EIS/EIR will examine the potential environmental effects of the CoSu transmission line. WAPA will prepare the EIS/EIR with the SMUD, the lead state agency for CEQA. WAPA will be the lead Federal agency under NEPA.

WAPA and SMUD held public scoping meetings from December 2015 to April 2016 to gather public input on the proposed project. As a result of these original public scoping meetings and the scoping comments received, WAPA and SMUD decided to add additional project alternatives closer to the Sacramento area. The new study area is further described below.

Original Alternatives

1. Northern Corridor Alternative: Constructing a new transmission line (approximately 44 miles in length) adjacent to WAPA's existing 230-kV Olinda-O'Banion and Keswick-O'Banion double circuit transmission lines. The Northern Corridor Alternative would interconnect the existing California-Oregon Transmission Project (COTP) transmission line system near the existing COTP's Maxwell Series Compensation Substation to WAPA's CVP transmission system near the existing WAPA's O'Banion Substation. The new transmission line would require the construction of an additional substation adjacent to the existing Maxwell Series Compensation Substation and an additional substation adjacent to the existing O'Banion Substation.

2. Southern Corridor Alternative: Constructing a new transmission line (approximately 27 miles in length) so that it interconnects along the existing COTP transmission line system approximately 8 miles northwest of the community of Arbuckle, California, and proceeds eastwardly towards the existing O'Banion Substation. The Southern Corridor Alternative would also require the construction of an additional substation adjacent to the existing COTP transmission line northwest of Arbuckle and an additional substation adjacent to the existing O'Banion Substation.

3. Segment 1 Alternative: Approximately 9 miles in length and just west of the existing O'Banion Substation, this segment would provide an alternate north-to-south route for the Northern Corridor Alternative. Instead of following WAPA's existing 230-kV Olinda-O'Banion and Keswick-O'Banion double circuit transmission lines to the O'Banion substation, this segment would extend south, at a location approximately 30 miles from the Maxwell Substation, and then continue due east to connect to the O'Banion substation. Under this segment alternative, the new line would be located further away from the Sutter National Wildlife Refuge.

New Alternatives

4. County Road 16 Alternative: Constructing a new transmission line (approximately 27 miles in length) so that it interconnects along the existing COTP transmission line system approximately 8 miles west of the community of Dufour, California, and proceeds eastwardly towards the existing Elverta Substation. The County Road 16 Alternative would also require the construction of an additional substation adjacent to the existing COTP transmission line northwest of Dufour and an additional substation adjacent to the existing Elverta Substation.

5. Segment 2 Alternative: Approximately 9 miles in length and 6 miles northwest of the existing Elverta Substation, this segment would provide an alternate west-to-east route for the County Road 16 Alternative. This segment would extend north in a loop-like fashion, at a location approximately 2.5 miles north of the Sacramento International Airport, and then rejoin the County Road 16 Alternative as it continues due east to connect to the Elverta Substation. Under this segment alternative, the new line would be located further away from the Sacramento International Airport to provide sufficient clearance of transmission structures for airplanes.

6. No Action Alternative: WAPA will also consider a No Action Alternative in the EIS/EIR. Under the No Action Alternative, for the purpose of establishing a baseline for impact analysis and comparison in the EIS/EIR, WAPA would not construct the proposed Project and the environmental impacts associated with construction and operation would not occur.

Public Participation

The EIS/EIR process includes a public scoping period and public scoping meetings; publication, public review and hearing of the Draft EIS/EIR; publication of a Final EIS/EIR; and publication of a ROD.

WAPA and SMUD will hold six additional public scoping meetings at the following times and locations:

(1) Tuesday, January 24, 2017, from 5:00 p.m. to 8:00 p.m. at the Sutter Youth Organization Center, 7740 Butte House Road, Sutter, CA 95982;

(2) Thursday, January 26, 2017, from 5:00 p.m. to 8:00 p.m. at the Colusa Casino Community Room, 3770 California 45, Colusa, CA 95932;

(3) Tuesday, January 31, 2017, from 9:00 a.m. to 12:00 p.m. at the Woodland Community and Senior Center Banquet Rooms, 2001 East Street, Woodland, CA 95776;

(4) Tuesday, January 31, 2017, from 5:00 p.m. to 8:00 p.m. at the Woodland Community and Senior Center Banquet Rooms, 2001 East Street, Woodland, CA 95776;

(5) Thursday, February 2, 2017, from 9:00 a.m. to 12:00 p.m. at the Haggin-Grant American Legion Post 521, 6700 8th Street, Rio Linda, CA 95673; and,

(6) Thursday, February 2, 2017, from 5:00 p.m. to 8:00 p.m. at the Haggin-Grant American Legion Post 521, 6700 8th Street, Rio Linda, CA 95673.

The meetings will be informal, and attendees will be able to speak directly with both WAPA and SMUD representatives about the proposed Project. Attendees also may provide comments at these meetings. For the most recent information and for announcements, please visit the Project Web site at: www.CoSuLine.com.

At the conclusion of the NEPA process, WAPA will prepare a ROD. Persons interested in receiving future notices, proposed Project information, copies of the EIS/EIR, and other information on the NEPA review process should contact Mr. Montaño at the address listed in the ADDRESSES section.

The purpose of the additional scoping meetings is to provide information about the proposed Project, review Project maps, answer questions, and take oral and written comments from interested parties. All meeting locations will be handicapped-accessible. Anyone needing special accommodations should contact Mr. Montaño to make arrangements.

The public will have the opportunity to provide written comments at the public scoping meetings. Written comments may also be sent to Mr. Montaño by email or U.S. Postal Service mail. To help define the scope of the EIS/EIR, comments should be received by WAPA no later than March 7, 2017. WAPA will consider any comments received from April 18, 2016 and March 7, 2017 to be timely submitted. All comments received during the public scoping period will be considered when developing project alternatives and establishing the scope of issues to be analyzed in the EIS/EIR.

Dated: December 19, 2016.
Mark A. Gabriel,
Administrator.

[FR Doc. 2017-00053 Filed 1-5-17; 8:45 am]

BILLING CODE 6450-01-P